DEPARTMENT OF COMMERCE

International Trade Administration

[A-570-890]

Wooden Bedroom Furniture From the People's Republic of China: Extension of the Time Limit for the Final Results of the Antidumping Duty Administrative Review

AGENCY: Import Administration, International Trade Administration, Department of Commerce.

DATES: June 10, 2011.

FOR FURTHER INFORMATION CONTACT: Jeff Pedersen, AD/CVD Operations, Import Administration, International Trade Administration, U.S. Department of Commerce, 14th Street and Constitution Avenue, NW., Washington, DC 20230, telephone: (202) 482-2769.

SUPPLEMENTARY INFORMATION:

On March 4, 2010, the Department of Commerce (“Department”) published a notice of initiation of an administrative review of the antidumping duty order on wooden bedroom furniture from the People's Republic of China covering the period January 1, 2009, through December 31, 2009. See Initiation of Administrative Review of the Antidumping Duty Order on Wooden Bedroom Furniture From the People's Republic of China, 75 FR 9869 (March 4, 2010). On February 10, 2011, the Department published its preliminary results of the administrative review. See Wooden Bedroom Furniture from the People's Republic of China: Preliminary Results of Antidumping Duty Administrative Review and Intent to Rescind Review in Part, 76 FR 7534 (February 10, 2011). The final results of the administrative review are currently due no later than June 10, 2011.

Statutory Time Limits

In antidumping duty administrative reviews, section 751(a)(3)(A) of the Tariff Act of 1930, as amended (“the Act”), requires the Department to make a final determination in an administrative review of an antidumping duty order within 120 days after the date on which the preliminary results are published. However, if it is not practicable to complete the review within this time period, section 751(a)(3)(A) of the Act allows the Department to extend the 120-day period to 180 days after publication of the preliminary results (or 300 days if the Department has not extended the time limit for the preliminary results).

Extension of Time Limit for Final Results

The Department has determined that it is not practicable to complete the review within the 120-day time period because it requires additional time to consider the comments it received on May 25, 2011 concerning Zhangjiagang Zheng Yan Decoration Co., Ltd. Therefore, in accordance with section 751(a)(3)(A) of the Act, the Department is extending the time period for completing the final results of the instant administrative review until July 11, 2011.

This notice is published pursuant to sections 751(a)(3)(A) and 777(i) of the Act.

Dated: June 3, 2011.
Christian Marsh,
Deputy Assistant Secretary for Antidumping and Countervailing Duty Operations.

[FR Doc. 2011-14365 Filed 6-9-11; 8:45 am]

BILLING CODE 3510-DS-P